DEPARTMENT OF HOMELAND SECURITY

Federal Emergency Management Agency

44 CFR Part 206

[Docket ID FEMA-2023-0005]

RIN 1660-AB09

Update of FEMA's Public Assistance Regulations; Reopening of Comment Period

AGENCY: Federal Emergency Management Agency, Department of Homeland Security.

ACTION: Proposed rulemaking; reopening and extending the public comment period.

SUMMARY: This notice reopens the comment period for the proposed rule published on July 2, 2024, entitled “Update of FEMA's Public Assistance Regulations.” The comment period for the proposed rule closed September 3, 2024; it is now reopened and extended from September 4, 2024, to October 18, 2024.

DATES: The comment period for the proposed rule published on July 2, 2024 (89 FR 54966) is reopened.

Comments must be submitted by October 18, 2024.

ADDRESSES: Interested persons are invited to participate in this rulemaking by submitting comments and related materials. FEMA will consider all comments and material received during the comment period.

If you submit a comment, include the Docket ID FEMA-2023-0005, indicate the specific section of this document to which each comment applies, and give the reason for each comment. All submissions may be posted, without change, to the Federal eRulemaking Portal at www.regulations.gov, and will include any personal information you provide. Therefore, submitting this information makes it public. You may wish to read the Privacy and Security Notice that is available via a link on the homepage of www.regulations.gov. For access to the docket to read background documents or comments received, go to the Federal eRulemaking Portal at www.regulations.gov.

FOR FURTHER INFORMATION CONTACT: Tod Wells, Deputy Director, Public Assistance Division. Phone: (202) 646-3834. Email: fema-recovery-pa-policy@fema.dhs.gov.

SUPPLEMENTARY INFORMATION: On July 2, 2024, FEMA published a notice of proposed rulemaking with request for comments in the Federal Register at 89 FR 54966. The proposed rule, entitled “Update of FEMA's Public Assistance Regulations,” would amend the Public Assistance program regulations at Title 44, part 206, of the Code of Federal Regulations (CFR) to reflect current statutory authorities, clarify the requirements for program eligibility, and improve program administration.

FEMA is responsible for administering and coordinating the Federal Government response to Presidentially declared disasters pursuant to the Robert T. Stafford Disaster Relief and Emergency Assistance Act, as amended (Stafford Act), Public Law 93-288, 42 U.S.C. 5121 et seq. When a catastrophe occurs in a State or affects the members of a Tribal community, the State's Governor or Tribal Chief Executive may request a Presidential declaration of a major disaster pursuant to Section 401 of the Stafford Act. 42 U.S.C. 5170(a), (b); 44 CFR 206.36(a).

The Public Assistance program is one of the programs that may be authorized by a declaration, which provides a broad range of assistance to State, Tribal, Territorial and local governments. It provides assistance for emergency protective measures, such as emergency evacuation, sheltering, and debris removal, as well as financial assistance for the permanent restoration of facilities. In addition, the Stafford Act authorizes Community Disaster Loans for any local or Tribal government that has suffered a substantial loss of tax and other revenues as a result of a major disaster, and that demonstrates a need for financial assistance to perform its governmental functions. 42 U.S.C. 5184.

In “Update of FEMA's Public Assistance Regulations,” FEMA proposes to amend its Public Assistance and Community Disaster Loan program regulations to both improve program administration and incorporate statutory changes relating to Public Assistance and Community Disaster Loans. These include the Post Katrina Emergency Management Reform Act of 2006 (PKEMRA), Public Law 109-295, 120 Stat. 1394, the Security and Accountability for Every Port Act of 2006 (SAFE Port Act), Public Law 109- 347, 120 Stat. 1884, the Pets Evacuation and Transportation Standards Act of 2006 (PETS Act), Public Law 109-308, 120 Stat. 1725, the Sandy Recovery Improvement Act of 2013 (SRIA), Public Law 113-2, 127 Stat. 39, the Emergency Information Improvement Act of 2015, Public Law 114-111, 129 Stat. 2240, the Bipartisan Budget Act of 2018, Public Law 115-123, 132 Stat. 64, and the FAA Reauthorization Act of 2018, Division D, Disaster Recovery Reform Act of 2018 (DRRA), Public Law 115-254, 132 Stat. 3438.

On September 3, 2024, FEMA received a request to reopen and extend the public comment period in Docket ID FEMA-2023-0005. FEMA-2023-0005-0119; FEMA-2023-0005-0138. To provide additional time for interested parties to consider and comment on any implications of the “Update of FEMA's Public Assistance Regulations,” FEMA reopens and extends the comment period from September 4, 2024, to October 18, 2024.

FEMA will consider comments received from July 2, 2024 to October 18, 2024. Please visit www.regulations.gov to view the proposed rule, comments received, and all supporting documents.

Deanne Criswell,
Administrator, Federal Emergency Management Agency.

[FR Doc. 2024-21556 Filed 9-23-24; 8:45 am]

BILLING CODE 9111-23-P